DEPARTMENT OF THE INTERIOR

Bureau of Land Management

[LLAZC01000.L1430000.ES0000; AZA 32905]

Notice of Realty Action; Recreation and Public Purposes Act Classification; and Notice of Intent To Prepare an Amendment to the Kingman Resource Management Plan; Arizona

AGENCY: Bureau of Land Management, Interior.

ACTION: Notice of Realty Action.

SUMMARY: The Bureau of Land Management (BLM) has examined for classification approximately 1.31 acres of public land located in Mohave County, Arizona, and has found the surface of the land suitable for lease to the Pinion Pine Fire District under the provisions of the Recreation and Public Purposes (R&PP) Act, as amended, to be used as a fire station. In order to implement the classification decision, the BLM intends to prepare an Environmental Assessment (EA) to analyze the proposed amendment to the BLM Kingman Resource Management Plan (RMP) by identifying the subject land as available for conveyance under the R&PP Act, and by this notice is announcing the beginning of the scoping process to solicit public comments and identify issues.

DATES: Comments of interested persons are invited. Comments must be postmarked no later than June 29, 2011. Only written comments will be accepted. Please reference “Proposed Pinion Pine Fire District Station” on all correspondence. The date(s) and location(s) of any scoping meetings will be announced at least 15 days in advance through the local news media. In order to be included in the EA, all comments must be postmarked no later than July 25, 2011. The BLM will provide additional opportunities for public participation during the planning process.

ADDRESSES: You may submit comments on issues and planning criteria related to the Kingman RMP/EA by any of the following methods:

• E-mail: andy_whitefield@blm.gov.

• Fax: 928-718-3761.

• Mail: Ruben Sanchez, BLM Field Manager, Kingman Field Office, 2755 Mission Boulevard, Kingman, Arizona 86401.

Documents pertinent to this proposal may be examined at the BLM Kingman Field Office at the above address during regular business hours (8 a.m. to 4 p.m.), Monday through Friday, except Federal holidays.

FOR FURTHER INFORMATION CONTACT: For further information and/or to have your name added to our mailing list, contact Andy Whitefield, Environmental Protection Specialist, telephone 928-718-3746; address BLM Kingman Field Office, 2755 Mission Boulevard, Kingman, Arizona 86401; e-mail andy_whitefield@blm.gov.

SUPPLEMENTARY INFORMATION: In September 2004, the Pinion Pine Fire District (District) submitted an application for the conveyance of lands under the authority of the R&PP Act, as amended (43 U.S.C. 869 et seq.). A portion of the lands for which the application was made were under a lease with the former landowner which subsequently expired in December 2004. In its application, the District also applied for lands in addition to those under the lease so the District could continue to use and expand the fire station facilities. These lands were acquired in a land exchange. When acquired, these lands became “public lands,” pursuant to Section 205(c) of the FLPMA, 43 U.S.C. 1715(c), and thus made subject to the BLM classification and planning requirements. The parcel of land for which application was made is described as follows:

Gila and Salt River Meridian

T. 20 N., R. 16 W.,

Sec. 1, lot 5.

The area described contains approximately 1.31 acres in Mohave County.

The surface of the above-described land in Mohave County, Arizona, has been examined and found suitable for classification for a non-profit, public purpose—specifically a site that may be leased and/or conveyed for use as a fire station, serving the immediate community, under the provisions of the R&PP Act, as amended, 43 U.S.C. 869 et seq., and is hereby classified accordingly pursuant to the Taylor Grazing Act, as amended, 43 U.S.C. 315(f). The land is not needed for any Federal purpose, and its proposed disposal will be determined upon completion of the RMP amendment process, which includes addressing the public interest.

Effective upon publication of this notice in the Federal Register, the public land described above is segregated from all other forms of appropriation under the public land laws, except for leasing and/or conveyance under the R&PP Act. Segregation from the mining and mineral leasing laws does not apply, because the United States of America does not hold title to the mineral estate. The land is, however, segregated from the operation of the Materials Act, as amended, 30 U.S.C. 601 et seq., to the extent of the BLM's authority to dispose of mineral materials that are considered a part of the surface estate.

The above-described land has not been classified until now. The land was acquired along with other lands pursuant to an exchange executed under the authority of Section 206 of the Federal Land Policy and Management Act (FLPMA), as amended, 43 U.S.C. 1716. When acquired, these lands became “public lands,” pursuant to Section 205 (c) of FLPMA, 43 U.S.C. 1715 (c), and thus made subject to BLM classification and planning requirements.

The BLM Kingman RMP does not identify the above described parcel for uses under the R&PP Act or for disposal. Therefore, the BLM is proposing to amend the Kingman RMP, in accordance with 43 CFR 1610.5-5, to identify the above-described land as being subject to surface occupancy and use under the terms and conditions of a lease and/or conveyance pursuant to the R&PP Act. The amendment would fulfill the needs and obligations set forth by the National Environmental Policy Act (NEPA), FLPMA, and BLM management policies.

The purpose of the public scoping process is to determine relevant issues that will influence the scope of the environmental analysis of both the proposed lease/conveyance under the R&PP Act, as well as any associated proposed plan amendment under FLPMA, including alternatives, and guide the process for developing the EA. At present, the BLM has identified the following preliminary issue:

• The denial of the District's application and removal of its fire station would significantly reduce the effectiveness of the District's ability to respond to emergencies within the area.

As noted above, authorization of this proposed lease and/or conveyance of public land would require amendment of the Kingman RMP, March 1995. By this notice, the BLM is complying with requirements in 43 CFR 1610.2(c) to notify the public of potential amendments to land use plans, predicated on the findings that may result from preparation of an EA. The BLM will integrate the land use planning process with the NEPA process for this project.

The BLM will also utilize and coordinate the NEPA commenting process to satisfy the public involvement process for Section 106 of the National Historic Preservation Act (16 U.S.C. 470f) as provided for in 36 CFR 800.2(d)(3). Native American tribal consultations will be conducted in accordance with policy, and tribal concerns will be given due consideration, including impacts on Indian trust assets. Federal, State, and local agencies, along with other stakeholders that may be interested or affected by the BLM's decision on this project are invited to participate in the scoping process and, if eligible, may request or be requested by the BLM to participate as a cooperating agency.

If and when the BLM State Director does or does not approve an amendment to the Kingman RMP, the public will be notified accordingly.

Any lease and/or conveyance of the subject public land will be made subject to the provisions of the R&PP Act and the applicable regulations of the Secretary of the Interior. Any lease and/or conveyance of this land will also contain the following reservations to the United States:

1. Provisions of the R&PP Act, including but not limited to, the terms required by 43 CFR 2741.9;

2. A right-of-way thereon for ditches and canals constructed by the authority of the United States, Act of August 30, 1890 (43 U.S.C. 945); and

3. The United States would reserve to itself, its successors, assigns and permit holders the rights to maintain, operate, and terminate a road, as granted in right-of-way AZA 33596, and the rights to construct, operate, maintain, and terminate a fence as granted in right-of-way AZA 33619.

Any lease or conveyance will also be subject to valid existing rights, including outstanding mineral rights; will contain any terms or conditions required by law or regulation, including, but not limited to, any terms or conditions required by 43 CFR 2741.9; and will contain an appropriate indemnification clause protecting the United States from claims arising out of the lessee's or grantee's use, occupancy, or operations on the leased or patented lands. It will also contain any other terms or conditions deemed necessary or appropriate by the authorized officer.

RMP Amendment Comments: The public is invited to provide comments on the proposed Kingman RMP amendment, including planning criteria to consider regarding the proposed RMP amendment, concerns, issues, or proposed alternatives.

R&PP Classfication Comments: Interested parties may submit written comments involving the suitability of the land for the fire station. Comments on the classification should be limited to whether the land is physically suited for the fire station, whether the use will maximize the future use or uses of the land, whether the use is consistent with local planning and zoning, as well as State and Federal programs, and whether the use takes into consideration germane tribal plans and policies.

R&PP Application Comments: Interested parties may submit written comments regarding the specific use proposed in the R&PP application, proposed action and plan of development, whether the BLM followed proper administrative procedures in reaching the decision, or any other factor not directly related to the suitability of the land for the fire station. Copies of the application, proposed action, and plan of development are available from the BLM Kingman Field Office.

Any adverse comments concerning the classification decision stated in this Notice will be reviewed by the Field Manager, Kingman Field Office, who may sustain, vacate or modify that realty action. In the absence of any objection or adverse comment, the classification decision will become the final determination of the Department of the Interior. In such case, the classification will become effective on August 8, 2011.

In any event, the land will not be offered for an R&PP Act lease and/or conveyance until after the classification decision takes effect and at least 30 days have elapsed following public notice of the BLM State Director's approval of the BLM Kingman RMP amendment. Any comments received during the scoping period, or following publication of the draft RMP amendment and draft supporting NEPA analysis, and/or protests associated with the planning process will be subject to the applicable provisions of the BLM planning regulations at 43 CFR part 1610.

Before including your address, phone number, e-mail address, or other personal identifying information in your comment, you should be aware that your entire comment—including your personal identifying information—may be made publicly available at any time. While you can ask us in your comment to withhold your personal identifying information from public review, we cannot guarantee that we will be able to do so.

(Authority: 43 CFR 1610.2, 43 CFR 1610.5-5, 43 CFR 2741.5(h)).

Ruben A. Sánchez,
Kingman Field Office Manager.

[FR Doc. 2011-14087 Filed 6-7-11; 8:45 am]

BILLING CODE 4310-32-P